OFFICE OF GOVERNMENT ETHICS

Privacy Act of 1974; Systems of Records Notice; Correction

AGENCY: Office of Government Ethics (OGE).

ACTION: Notice of proposed new and revised systems of records; correction.

SUMMARY: In this document, OGE is correcting several minor errors under certain headings of the Notice of Proposed New and Revised Systems of Records, which was published by OGE in the Federal Register on Wednesday, January 22, 2003 and will become effective on May 22, 2003.

DATES: These corrections to the proposed new and revised systems of records will become effective on May 22, 2003.

FOR FURTHER INFORMATION CONTACT: Elaine Newton, Attorney-Advisor, Office of Government Ethics, Suite 500, 1201 New York Avenue, NW., Washington, DC 20005-3917; Telephone: 202-208-8000; TDD: 202-208-8025; FAX: 202-208-8037.

SUPPLEMENTARY INFORMATION: As set forth below in this document, OGE is correcting several minor errors in the Notice of Proposed New and Revised Systems of Records document, which OGE published on January 22, 2003 at 68 FR 3098-3109 (as separate part II), with comments requested by March 24, 2003. OGE did not receive any comments; thus, as indicated in the notice, the proposed new and revised systems of records, as corrected in this document, will become effective on May 22, 2003.

Approved: April 30, 2003.
Amy L. Comstock,
Director, Office of Government Ethics.

As indicated in the preamble, the Office of Government Ethics, is correcting the January 22, 2003 publication of the Notice of Proposed New and Revised Systems of Records, which was the subject of FR Doc. 03-1101, as follows:

OGE/GOVT-1 [Corrected]

1. On page 3099, in the third column, the second sentence of the text under the heading “CATEGORIES OF RECORDS IN THE SYSTEM:” is corrected by removing the word “of” between the words “Ethics and “Government” and by adding in its place the word “in”.

2. On page 3100, in the first column, the text under the heading “PURPOSE(S):” is corrected by removing the words “and E.O.” and by adding in their place the words “Executive Order”, and by adding a comma followed by the words “and OGE and agency regulations thereunder” after the word “modified”.

3. On page 3100, in the second column, routine use (c) is corrected by removing the word “OGE” and by adding in its place the words “the disclosing agency”.

OGE/GOVT-2 [Corrected]

4. On page 3101, in the third column, the text under the heading “PURPOSE(S):” is corrected by removing the word “Orders” and by adding in its place the word “Order”.

5. On page 3102, in the first column, routine use (a) is corrected by removing the word “OGE” and by adding in its place the words “the disclosing agency”.

6. On page 3102, in the first column, routine use (b) is corrected by adding the word “a” between the words “is” and “party”.

7. On page 3102, in the second column, the text of the Note is corrected by adding a comma between the words “laws” and “Executive”.

OGE/INTERNAL-1 [Corrected]

8. On page 3103, in the first column, the second sentence of the text under the heading “CATEGORIES OF RECORDS IN THE SYSTEM:” is corrected by adding the word “Employees” between the words “Federal” and “Retirement”.

OGE/INTERNAL-5 [Corrected]

9. On page 3108, in the third column, the first sentence of the text under the heading “CATEGORIES OF RECORDS IN THE SYSTEM:” is corrected by inserting a comma after the word “location”, by removing the word “and”, and by adding the words “and hours of duty” between the words “extension” and “of”.

[FR Doc. 03-11416 Filed 5-7-03; 8:45 am]

BILLING CODE 6345-02-P